INTERNATIONAL TRADE COMMISSION

[Investigation Nos. 731-TA-1435-1436 and 1438-1440 (Review)]

Acetone From Belgium, Singapore, South Africa, South Korea, and Spain; Revised Schedule for the Subject Proceeding

AGENCY: United States International Trade Commission.

ACTION: Notice.

DATES: November 18, 2025.

FOR FURTHER INFORMATION CONTACT: Stamen Borisson (202-205-3125), Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (https://www.usitc.gov). The public record for this proceeding may be viewed on the Commission's electronic docket (EDIS) at https://edis.usitc.gov.

SUPPLEMENTARY INFORMATION: Effective May 20, 2025, the Commission established a schedule for the conduct of the subject proceeding (90 FR 22323, May 27, 2025). Due to the lapse in appropriations and ensuing cessation of Commission operations, the Commission is revising its schedule as follows: the deadline for filing posthearing briefs and for written statements from any person who has not entered an appearance as a party is December 3, 2025; the Commission will make its final release of information on December 22, 2025; and final party comments are due on December 30, 2025.

On September 30, 2025, counsel for the Coalition for Acetone Fair Trade filed a request to appear at the hearing. No other parties submitted a request to appear at the hearing. On November 17, 2025, counsel for the Coalition for Acetone Fair Trade withdrew its request to appear at the hearing, filed a request that the Commission cancel the scheduled hearing for this proceeding and indicated a willingness to respond to any Commission questions in lieu of an actual hearing. Consequently, the public hearing in connection with this proceeding, originally scheduled to begin at 9:30 a.m. on October 7, 2025, is cancelled. Parties to this proceeding should respond to any written questions posed by the Commission in their posthearing briefs.

For further information concerning this proceeding, see the Commission's notice cited above and the Commission's Rules of Practice and Procedure, part 201, subparts A and B (19 CFR part 201), and part 207, subparts A, D, E, and F (19 CFR part 207).

Authority: This proceeding is being conducted under authority of title VII of the Tariff Act of 1930; this notice is published pursuant to section 207.62 of the Commission's rules.

By order of the Commission.
Issued: November 18, 2025.
Sharon Bellamy,
Supervisory Hearings and Information Officer.

[FR Doc. 2025-20518 Filed 11-20-25; 8:45 am]

BILLING CODE 7020-02-P